DEPARTMENT OF COMMERCE

National Oceanic and Atmospheric Administration

[I.D. 121504F]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Groundfish and Scallop Oversight Committees in January, 2005. Recommendations from these committees will be brought to the full Council for formal consideration and action, if appropriate.

DATES: The meetings will held on Thursday, January 13, 2005 and Wednesday, January 26, 2005.

ADDRESSES: The meetings will be held in Mansfield and Revere, MA.

Council address: New England Fishery Management Council, 50 Water Street, Newburyport, MA 01950.

FOR FURTHER INFORMATION CONTACT: Paul J. Howard, Executive Director, New England Fishery Management Council; telephone: (978) 465-0492.

SUPPLEMENTARY INFORMATION:

Meeting Dates and Agendas

Thursday, January 13, 2005, 9:30 a.m. - Groundfish Oversight Committee Meeting

Location: Holiday Inn, 31 Hampshire Street, Mansfield, MA 02048; telephone: (508)339-2200.

Regulations implementing Amendment 13 to the Northeast Multispecies Fishery Management Plan (FMP) were implemented on May 1, 2004. This amendment calls for an updated assessment of multispecies stocks in 2005 to evaluate stock status and the effectiveness of the regulations. Subsequent to that assessment, the Council will be considering changes to the management measures, if necessary, in order to meet the objectives of Amendment 13. In addition to changes that may be needed to respond to the updated assessments, the Council may consider changes to other management measures. These could include, but are not limited to, an extension of the days-at-sea leasing program, modifications to the default measures, modifications to existing Special Access Programs (SAPs) or additional SAPs, changes to permitting conditions, reviews of bycatch information, etc. As a result of the extensive scope of this next management action, the committee will meet to develop recommendations on the broad issues to be addressed in the next adjustment, identify the information that will be needed to support decisions on those issues, develop a timeline for the Committee's work, and may begin to identify specific measures that will be included. The committee's recommendations will be presented to the full Council for consideration at a later date.

Wednesday, January 26, 2005, 9:30 a.m. - Scallop Oversight Committee Meeting

Location: Four Points By Sheraton,407 Squire Road, Revere, MA 02151; telephone: (781) 284-7200.

The committee will review the analysis of general category Vessel Monitoring System (VMS) alternatives in Framework Adjustment 17 and recommend a final alternative to the Council. The committee will also discuss scallop research priorities and the total allowable catch/days-at-sea (TAC/DAS) set-aside research application review process following a presentation by the NMFS Regional Office staff. Other business may be discussed, as needed. Finally, the agenda includes a closed-door session at the end of the meeting to develop Advisory Panel appointment recommendations.

Although non-emergency issues not contained in these agendas may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: December 17, 2004.
Alan D. Risenhoover,
Acting Director, Office of Sustainble Fisheries, National Marine Fisheries Service.

[FR Doc. E4-3765 Filed 12-21-04; 8:45 am]

BILLING CODE 3510-22-S